DEPARTMENT OF ENERGY

Federal Energy Regulatory Commission

[Project No.: 2677-019]

City of Kaukauna, WI; Notice of Application Accepted for Filing and Soliciting Motions To Intervene and Protests

November 27, 2007.

Take notice that the following hydroelectric application has been filed with the Commission and is available for public inspection.

a. Type of Application: New Major License.

b. Project No.: 2677-019.

c. Date filed: August 29, 2007.

d. Applicant: City of Kaukauna, Wisconsin.

e. Name of Project: Badger-Rapide Croche Hydroelectric Project.

f. Location: On the Fox River in Outagamie County, near the city of Kaukauna, Wisconsin. The project does not affect federal lands.

g. Filed Pursuant to: Federal Power Act, 16 U.S.C. 791 (a)-825(r).

h. Applicant Contact: Mike Pedersen, Kaukauna Utilities, 777 Island Street, P.O. Box 1777, Kaukauna, WI 54130-7077, 920-462-0220, or Arie DeWaal, Mead & Hunt, Inc., 6501 Watts Road, Madison, WI 53719, 608-273-6380.

i. FERC Contact: John Smith (202) 502-8972 or john.smith@ferc.gov.

j. Deadline for filing motions to intervene and protests: 60 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

k. This application has been accepted, but is not ready for environmental analysis at this time.

l. The existing project works consists of the following two developments:

As licensed, the existing Badger Development utilizes the head created by the 22-foot-high Army Corps of Engineers (Corps) Kaukauna dam and consists of: (1) A 2,100-foot-long, 100-foot-wide power canal that bifurcates into a 260-foot-long, 200-foot-wide canal and a 250-foot-long, 80-foot-wide canal leading to; (2) the Old Badger powerhouse containing two 1,000-kilowatt (kW) generating units for a total installed capacity of 2,000 kW; and (3) the New Badger powerhouse containing two 1,800-kilowatt (kW) generating units for a total installed capacity of 3,600 kW; and (4) appurtenant facilities.

As licensed, the existing Rapide Croche Development utilizes the head created by the 20-foot-high Corps Rapide Croche dam, located approximately 4.5 miles downstream from the Badger Development and consists of: (1) A powerhouse, located on the south end of the dam, containing four 600-kW generating units for a total installed capacity of 2,400 kW; (2) the 5-mile-long, 12-kV transmission line; and (3) appurtenant facilities.

The license application also indicates that flashboards are used at the Kaukauna (6-inch-high) and Rapide-Croche (30-inch-high) dams to provide additional head for project generation.

The proposed project would include decommissioning the Old Badger and New Badger plants and constructing a new 7-MW powerhouse about 150 feet upstream from the existing New Badger plant site. Proposed project works would consist of: (1) A modified power canal leading to; (2) a new powerhouse with integral intake; and (3) two identical 3.5- to 3.6-MW horizontal Kaplan “S” type turbines. The Old Badger development would be converted to an alternative use. The New Badger development would be decommissioned, demolished, and removed. The existing service road would be demolished and removed. The tailrace area associated with the existing Old Badger development would be filled with soil. A new service road would be constructed over the filled area. No significant changes are proposed for the Rapide Croche development.

The existing Badger and Rapide Croche developments currently operate in run-of-river mode and as proposed, the new project would continue to operate in a run-of-river mode.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following Hydro Licensing Schedule. Revisions to the schedule will be made as appropriate.

Issue Acceptance letter | November 2007.
Issue Scoping Document 1 for comments | April 2008.
Issue Scoping Document 2 (if necessary) | June 2008.
Notice of application is ready for environmental analysis | October 2008.
Notice of the availability of the draft EA | June 2009.

Kimberly D. Bose,
Secretary.

[FR Doc. E7-23454 Filed 12-3-07; 8:45 am]

BILLING CODE 6717-01-P